DEPARTMENT OF THE TREASURY

Bureau of Alcohol, Tobacco and Firearms

27 CFR Part 9

[Notice No. 916]

RIN 1512-AA07

Proposed Rockpile Viticultural Area (2000R-436P)

AGENCY: Bureau of Alcohol, Tobacco and Firearms (ATF), Department of the Treasury.

ACTION: Notice of proposed rulemaking.

SUMMARY: The Bureau of Alcohol, Tobacco and Firearms (ATF) has received a petition proposing the establishment of a viticultural area located in northwest Sonoma County, California. The proposed Rockpile viticultural area would consist of approximately 14,000 acres of land which the petitioner states is at or above the 800′ elevation, includes areas of small rock and gravel mixed in the topsoil, some with outcroppings of larger rock, and growing conditions favorable for commercial wine grapes.

DATES: Written comments must be received by July 2, 2001.

ADDRESSES: Send written comments to: Chief, Regulations Division, Bureau of Alcohol, Tobacco and Firearms, P.O. Box 50221, Washington, DC 20091-0221 (Attn: Notice No. 916). Copies of the petition, the proposed regulations, the appropriate maps, and any written comments received will be available for public inspection during normal business hours at the ATF Reading Room, Office of Public Affairs and Disclosure, Room 6480, 650 Massachusetts Avenue, NW., Washington, DC 20226. Submit e-mail comments to: nprm@atfhq.atf.treas.gov. E-mail comments must contain your name, mailing address, and e-mail address. They must also reference this notice number and be legible when printed on not more than three pages 8½″ x 11″ in size. We will treat e-mail as originals and we will not acknowledge receipt of e-mail. See Public Participation section of this notice for alternative means of commenting.

FOR FURTHER INFORMATION CONTACT: N.A. Sutton, Specialist, Regulations Division (San Francisco, CA), Bureau of Alcohol, Tobacco and Firearms, 221 Main Street, 11th Floor, San Francisco, CA (415) 744-7011.

SUPPLEMENTARY INFORMATION:

Background

On August 23, 1978, ATF published Treasury Decision ATF-53 (43 FR 37672, 54624) revising regulations in 27 CFR Part 4. These regulations allow the establishment of definitive viticultural areas. The regulations allow the name of an approved viticultural area to be used as an appellation of origin on wine labels and in wine advertisements. On October 2, 1979, ATF published Treasury Decision ATF-60 (44 FR 56692) which added a new Part 9 to 27 CFR, for the listing of approved American viticultural areas, the names of which may be used as appellations of origin.

27 CFR 4.25(e)(1) defines an American viticultural area as a delimited grape-growing region distinguishable by geographic features, the boundaries of which have been delineated in Subpart C of Part 9.

Section 4.25a(e)(2) outlines the procedure for proposing an American viticultural area. Any interested person may petition ATF to establish a grape-growing region as a viticultural area. The petition should include:

(a) Evidence that the name of the proposed viticultural area is locally and/or nationally known as referring to the area specified in the petition;

(b) Historical or current evidence that the boundaries of the viticultural area are as specified in the petition;

(c) Evidence relating to the geographical characteristics (climate, soil, elevation, physical features, etc.) which distinguish the viticultural features of the proposed area from surrounding areas;

(d) A description of the specific boundaries of the viticultural area, based on features which can be found on United States Geological Survey (U.S.G.S.) maps of the largest applicable scale; and

(e) A copy (or copies) of the appropriate U.S.G.S. map(s) with the boundaries prominently marked.

Petition

The Bureau of Alcohol, Tobacco and Firearms (ATF) has received a petition proposing a new viticultural area to be called Rockpile. The proposed viticultural area is located in northwest Sonoma County, California, and encompasses approximately 14,000 acres, of which 148 acres are planted to vineyards. This proposed area overlaps approximately 2,500 acres with the approved Dry Creek Valley viticultural area.

Evidence That the Name of the Area Is Locally or Nationally Known

Initial reference to the Rockpile name dates to 1858 (The Sonoma Democrat newspaper, Santa Rosa, CA, 10/28/1882), and is based on cattle-raising at this “Rock Pile Ranch” location. According to the petitioner, in 1911 an investment partnership purchased about 21,000 acres of property in this area, naming it La Roca Monte Rancho, Spanish for the Rocky Peak. The property soon became known by its English name of Rockpile Ranch.

The Rockpile local name usage is noted on the current USGS Warm Springs Dam, Cloverdale and Big Foot Mountain Quadrangle maps, all parts of the petition. The most recent AAA Mendocino and Sonoma Coast Region map shows Rockpile Road within the proposed viticultural area.

Historical or Current Evidence That the Boundaries of the Viticultural Area Are as Specified in the Petition

The boundaries are based on historical name usage and the combination of geographical features, predominantly elevation and rocky terrain.

The historical name usage, according to the petitioner and as researched by historian Cathy Park, stems from a 1911 investment partnership that purchased land in the petitioned area. Acquisitions included the existing Rockpile Ranch, Rockpile Peak and surrounding areas. To manage this vast sheep-raising and hunting property, the area was eventually divided into Rockpile #1, Rockpile #2 and Rockpile #3 ranches. During the Depression much of the property was sold, but 18,000 acres of the Rockpile Ranch #3 area was preserved as a working sheep ranch. By the 1930's the area became locally known as Rockpile, and the winding road to the ranch headquarters was named Rockpile Road. USGS and AAA maps identify the area and road as Rockpile.

The predominant geographic highlight is the 800′ and above elevation of the entire petitioned area. This feature makes it higher than other grape-growing areas in the immediate proximity.

Evidence Relating to the Geographical Features (Climate, Soil, Elevation, Physical Features, etc.) Which Distinguish Viticultural Features of the Proposed Area From Surrounding Areas

The petitioner has defined the proposed viticultural area based on a geographic combination of elevation, terrain and climate.

The elevation of the Rockpile area, as shown on the USGS maps, spans from 800′ to approximately 1900′. According to the petition, the east and north side boundaries are delineated by the 800′ elevation, while the south and west boundaries average close to 1,800′ in elevation. Currently, vineyards are established from 800′ to 1,800′ elevations, with approximately 95% of the planted area above the 1,000′ elevation. This higher elevation provides different climatic influences.

Spring daytime temperatures in the proposed area run five to ten degrees cooler than the Healdsburg area, approximately ten miles southeast, according to the petition. In the absence of a marine inversion layer, or fog, the temperature decreases about six degrees Fahrenheit for additional 1,000 feet of elevation. The cool prevailing northwesterly spring breezes, which are not as prevalent at the lower elevations of the protected valley floors, increase the cooling effect. According to the petition, the viticultural effect of this cooling creates a delayed bud break and slower growth, resulting in delayed bloom and fruit set.

Summer weather in the Rockpile area, according to the petition, is slightly warmer than the area valleys due to less fog and more clear weather, resulting in increased sunshine and warmer temperatures. On days when the marine inversion is shallower than 1,000 feet, Rockpile is above the fog.

Fall night temperatures, as stated in the petition, can be warmer than in the surrounding areas, with less fog at 800′ and above than at lower elevations. The crucial grape ripening period of September and early October is generally warmer and drier in the Rockpile locality than in surrounding viticultural areas.

The soils, according to the petition, differ from neighboring valley viticultural areas by the relative absence of silt and sand, the higher oxidized iron properties (red color), and the clay subsoil. The topsoil, generally loam to clay loam with a red to brown color, is twelve to twenty-four inches in depth in the better viticultural locations. There are areas of small rock and gravel mixed in the topsoil, some with outcroppings of larger rock. The topsoil depth, and amounts of clay, rock and organic matter vary within the area. The topsoil is acid to very acid, and the subsoil is more clay-like in texture; however, areas of weathered shale and sandstone, in addition to the topography, contribute to well-drained vineyard conditions.

Proposed Boundaries

The proposed viticultural area is in northwest Sonoma County, California. The approved USGS maps for determining the boundary of the proposed Rockpile viticultural area are Warm Springs Dam Quadrangle, California—Sonoma Co., 7.5 Minute Series, edition of 1978; Cloverdale Quadrangle, California, 7.5 Minute Series, edition of 1975; Tombs Creek Quadrangle, California—Sonoma Co., 7.5 Minute Series, edition of 1978; and Big Foot Mountain Quadrangle, California, 7.5 Minute Series, edition of 1991.

The area is of an irregular east-to-west rectangular shape, with Rockpile Road running through its length. The eastern portion starts at the western edge of the Lake Sonoma Recreational Area and Warm Springs Dam, and runs in a west-northwesterly direction. The western portion of the petitioned area encompasses Rockpile Peak and Rockpile Ranch #3.

A portion of Rockpile's proposed eastside overlaps with the northwest corner of the Dry Creek Valley viticultural area. Approximately 2,500 acres, or 3% of the Dry Creek Valley viticultural area and 18% of the Rockpile area, is common territory. This overlapping area is flanked by the Dry Creek estuary to the north and Warm Springs Creek estuary to the south.

Public Participation—Written Comments

ATF requests comments from all interested persons. Comments received on or before the closing date will be carefully considered. Comments received after that date will be given the same consideration if it is practical to do so. However, assurance of consideration can only be given to comments received on or before the closing date.

ATF will not recognize any submitted material as confidential and comments may be disclosed to the public. Any material which the commenter considers to be confidential or inappropriate for disclosure to the public should not be included in the comments. The name of the person submitting a comment is not exempt from disclosure.

Comments may be submitted by facsimile transmission to (202) 927-8602, provided the comments: (1) are legible; (2) are 8½″ x 11″ in size, (3) contain a written signature, and (4) are three pages or less in length. This limitation is necessary to assure reasonable access to the equipment. Comments sent by FAX in excess of three pages will not be accepted. Receipt of FAX transmittals will not be acknowledged. Facsimile transmitted comments will be treated as originals.

Any person who desires an opportunity to comment orally at a public hearing on the proposed regulation should submit his or her request, in writing, to the Director within the 60-day comment period. The Director, however, reserves the right to determine, in light of all circumstances, whether a public hearing will be held.

Paperwork Reduction Act

The provisions of the Paperwork Reduction Act of 1995, 44 U.S.C. Chapter 35, and its implementing regulations, 5 CFR Part 1320, do not apply to this notice because no requirement to collect information is proposed.

Regulatory Flexibility Act

It is hereby certified that this proposed regulation will not have a significant impact on a substantial number of small entities. The establishment of a viticultural area is neither an endorsement nor approval by ATF of the quality of wine produced in the area, but rather an identification of an area that is distinct from surrounding areas. ATF believes that the establishment of viticultural areas merely allows wineries to more accurately describe the origin of their wines to consumers, and helps consumers identify the wines they purchase. Thus, any benefit derived from the use of a viticultural area name is the result of the proprietor's own efforts and consumer acceptance of wines from that area.

No new requirements are proposed. Accordingly, a regulatory flexibility anlysis is not required.

Executive Order 12866

It has been determined that this proposed regulation is not a significant regulatory action as defined by Executive Order 12866. Accordingly, this proposal is not subject to the analysis required by this Executive Order.

Drafting Information

The principal author of this document is N.A. Sutton, Regulations Division (San Francisco), Bureau of Alcohol, Tobacco, and Firearms.

List Subjects in 27 CFR Part 9

Administrative practices and procedures, Consumer protection, Viticultural areas, and Wine.

Authority and Issuance

Title 27, Code of Federal Regulations, part 9, American Viticultural Areas, is proposed to be amended as follows:

PART 9—AMERICAN VITICULTURAL AREAS

Paragraph 1. The authority citation for part 9 continues to read as follows:

Authority: 27 U.S.C. 205.

Subpart C—Approved American Viticultural Areas

Par 2. Subpart C is amended by adding Section 9.173 to read as follows:

§ 9.173 Rockpile.

(a) Name. The name of the viticultural area described in this section is “Rockpile.”

(b) Approved map. The appropriate maps for determining the boundary of the Rockpile viticultural area are four 1:24,000 Scale USGS topography maps. They are titled:

(1) Warm Springs Dam Quadrangle, CA—Sonoma Co. 1978

(2) Cloverdale Quadrangle, CA 1975

(3) Tombs Creek Quadrangle, CA—Sonoma Co. 1978

(4) Big Foot Mountain Quadrangle, CA 1991

(c) Boundary. The proposed viticultural area is located in northwest Sonoma County, California. The boundary encircles the Rockpile Ranch area, located west of Lake Sonoma. The point of beginning is the intersection of Rockpile Road and the boundary line between Section 14 and 15, Township 10 N, Range 11 W (Warm Springs Dam Quadrangle);

(1) Then proceed north along the Sections 15 and 10 east boundary lines to the intersection of the 800′ contour line, Township 10N, Range 11W (Warm Springs Dam Quadrangle);

(2) Then proceed west along the 800′ contour line through Sections 10, 9, 4, 5, 32 and into Section 31, Townships 10 and 11 N, Range 11 W (Warm Springs Dam and Cloverdale Quadrangles);

(3) Then proceed west along the 800′ contour line in Section 31, following the line as it reverses to the east direction, Township 11 N, Range 11 W (Big Foot Mountain Quadrangle);

(4) Then proceed along the 800′ contour line east through Sections 31, 32 and 33, and northwest through Sections 33, 32, 29 and 30, Township 11 N, Range 11 W (Cloverdale Quadrangle);

(5) Then proceed west along the 800′ contour line through Sections 30, 25, 24, 23, 14, 15, 22, 21, 20 to the intersection with the east boundary line of Section 19, Township 11 N, Range 12 W (Big Foot Mountain Quadrangle);

(6) Then proceed south along the east boundary line of Sections 19, 30 and 31 to the intersection with the Township 11 N and 10 N boundary line, Township 11 N, Range 12 W (Big Foot Mountain Quadrangle);

(7) Then proceed east along the Township 10 and 11 N boundary line to the intersection with the Sections 2 and 1 boundary line, Township 10 and 11 N, Range 12 W (Big Foot Mountain Quadrangle);

(8) Then proceed south along the Section 1 west boundary line, turning east at the southwest corner of Section 1 and continuing east to Section 6, Township 10 N, Range 12 W (Big Foot Mountain and Tombs Creek Quadrangles);

(9) Then proceed east along the south boundary of Section 6 to the intersection with Section 8, Township 10 N, Range 11 W (Tombs Creek and Warm Springs Dam Quadrangles);

(10) Then proceed south along the west boundary of Section 8, turning east at its southwest corner and continuing east to the intersection with the 876′ market, Township 10 N, Range 11 W (Warm Springs Dam Quadrangle);

(11) Then proceed straight south in Section 16 to the intersection with the 800' contour line Township 10 N, Range 11 W (Warm Springs Dam Quadrangle);

(12) Then follow the 800′ contour line as it meanders west, southeast, southwest and east to its intersection with Section 14, and continues north along the west boundary line of Section 14, returning to the point of beginning at Rockpile Road and the Section 14 west boundary line, Township 10 N, Range 11 W (Warm Springs Dam Quadrangle).

Signed: April 13, 2001.
Bradley A. Buckles,
Director.

[FR Doc. 01-10811 Filed 4-30-01; 8:45 am]

BILLING CODE 4810-31-M